DEPARTMENT OF TRANSPORTATION

Federal Aviation Administration

14 CFR Part 71

[Docket No. FAA-2011-1358; Airspace Docket No. 11-ANM-19]

RIN 2120-AA66

Establishment of Area Navigation (RNAV) Routes; Seattle, WA

AGENCY: Federal Aviation Administration (FAA), DOT.

ACTION: Final rule.

SUMMARY: This action establishes nine new RNAV routes originating within Seattle Air Route Traffic Control Center's (ARTCC) airspace. The routes extend generally east-west providing connection between the Seattle, WA terminal area and destinations east and southeast of Seattle. This action enhances the navigation routes within the National Airspace System (NAS).

DATES: Effective date 0901 UTC, May 31, 2012. The Director of the Federal Register approves this incorporation by reference action under 1 CFR part 51, subject to the annual revision of FAA Order 7400.9 and publication of conforming amendments.

FOR FURTHER INFORMATION CONTACT: Paul Gallant, Airspace, Regulations and ATC Procedures Group, Office of Airspace Services, Federal Aviation Administration, 800 Independence Avenue SW., Washington, DC 20591; telephone: (202) 267-8783.

SUPPLEMENTARY INFORMATION:

History

On December 21, 2011, the FAA published in the Federal Register a notice of proposed rulemaking (NPRM) to establish nine new RNAV routes (76 FR 79137).

Interested parties were invited to participate in this rulemaking effort by submitting written comments on the proposal. No comments were received.

The Rule

The FAA is amending Title 14, Code of Federal Regulations (14 CFR) part 71 to establish nine new high altitude RNAV routes (Q-140, Q-142, Q-144, Q-146, Q-148, Q-150, Q-152, Q-154 and Q-156) originating in Seattle ARTCC's airspace. The proposed routes would connect the Seattle terminal area with destinations east and southeast of Seattle. This action enhances en route navigation for users, increases the efficiency of the NAS and expands the use of RNAV in the NAS.

High altitude RNAV routes are published in paragraph 2006 of FAA Order 7400.9V dated August 9, 2011, and effective September 15, 2011, which is incorporated by reference in 14 CFR 71.1. The RNAV routes listed in this document will be published subsequently in the Order.

The FAA has determined that this regulation only involves an established body of technical regulations for which frequent and routine amendments are necessary to keep them operationally current. Therefore, this regulation: (1) Is not a “significant regulatory action” under Executive Order 12866; (2) is not a “significant rule” under Department of Transportation (DOT) Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it establishes RNAV routes to enhance the safe and efficient flow of traffic in the United States.

Environmental Review

The FAA has determined that this action qualifies for categorical exclusion under the National Environmental Policy Act in accordance with FAA Order 1050.1E, “Environmental Impacts: Policies and Procedures,” paragraphs 311a. This airspace action is not expected to cause any potentially significant environmental impacts, and no extraordinary circumstances exist that warrant preparation of an environmental assessment.

List of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of FAA Order 7400.9U, Airspace Designations and Reporting Points, dated August 18, 2010, and effective September 15, 2010, is amended as follows:

Paragraph 2006 United States area navigation routes.

* * * * *

Q-140 WOBED, WA to EEGEE, WI [New]
WOBED, WA | WP | Lat. 48°36′01″ N., long. 122°49′47″ W.
GETNG, WA | WP | Lat. 48°25′31″ N., long. 119°31′39″ W.
CORDU, ID | WP | Lat. 48°10′46″ N., long. 116°40′22″ W.
PETIY, MT | WP | Lat. 47°58′47″ N., long. 114°36′20″ W.
CHOTE, MT | INT | Lat. 47°39′57″ N., long. 112°09′38″ W.
LEWIT, MT | WP | Lat. 47°23′00″ N., long. 110°08′45″ W.
SAYOR, MT | INT | Lat. 47°13′58″ N., long. 104°58′39″ W.
WILTN, ND | INT | Lat. 47°04′58″ N., long. 100°47′44″ W.
TTAIL, MN | WP | Lat. 46°41′28″ N., long. 96°41′09″ W.
CESNA, WI | WP | Lat. 45°52′14″ N., long. 92°10′59″ W.
EEGEE, WI | WP | Lat. 45°08′53″ N., long. 88°45′58″ W.
Q-142 METOW, WA to KIXCO, MT [New]
METOW, WA | WP | Lat. 48°08′00″ N., long. 120°09′00″ W.
Mullan Pass, ID (MLP) | VOR/DME | Lat. 47°27′25″ N., long. 115°38′46″ W.
KEETA, MT | WP | Lat. 47°20′39″ N., long. 112°52′51″ W.
OKVUJ, MT | WP | Lat. 47°03′11″ N., long. 109°35′31″ W.
KIXCO, MT | WP | Lat. 46°35′56″ N., long. 104°35′27″ W.
Q-144 ZIRAN, WA to LEWIT, MT [New]
ZIRAN, WA | WP | Lat. 47°32′20″ N., long. 120°25′05″ W.
ZOOMR, WA | INT | Lat. 47°25′32″ N., long. 118°18′34″ W.
BLOWS, MT | WP | Lat. 47°16′10″ N., long. 115°00′00″ W.
KEETA, MT | WP | Lat. 47°20′39″ N., long. 112°52′51″ W.
LEWIT, MT | WP | Lat. 47°23′00″ N., long. 110°08′45″ W.
Q-146 CASHS, WA to HUFFR, MN [New]
CASHS, WA | INT | Lat. 47°24′21″ N., long. 120°27′30″ W.
BLUNT, WA | INT | Lat. 47°03′57″ N., long. 117°39′41″ W.
DIPHU, MT | INT | Lat. 46°56′34″ N., long. 114°41′22″ W.
CUSDA, MT | INT | Lat. 46°56′14″ N., long. 112°01′02″ W.
ZERZO, MT | INT | Lat. 46°52′26″ N., long. 110°05′08″ W.
KIXCO, MT | WP | Lat. 46°35′56″ N., long. 104°35′27″ W.
TIMMR, ND | INT | Lat. 46°22′50″ N., long. 100°54′33″ W.
SMERF, SD | WP | Lat. 45°55′16″ N., long. 97°34′08″ W.
HUFFR, MN | WP | Lat. 45°08′49″ N., long. 93°29′30″ W.
Q-148 STEVS, WA to Bartlesville, OK (BVO) [New]
STEVS, WA | WP | Lat. 47°14′54″ N., long. 120°32′10″ W.
ZAXUL, WA | INT | Lat. 47°10′03″ N., long. 120°02′42″ W.
FINUT, WA | WP | Lat. 46°44′56″ N., long. 117°05′20″ W.
WEDAK, MT | INT | Lat. 45°53′18″ N., long. 114°05′02″ W.
WAIDE, MT | INT | Lat. 44°50′49″ N., long. 111°44′47″ W.
JUGIV, WY | INT | Lat. 42°57′44″ N., long. 108°08′43″ W.
Medicine Bow, WY (MBW) | VOR/DME | Lat. 41°50′44″ N., long. 106°00′15″ W.
MOCTU, WY | INT | Lat. 41°11′54″ N., long. 104°33′10″ W.
LEWOY, CO | WP | Lat. 40°31′51″ N., long. 103°13′48″ W.
CUGGA, KS | INT | Lat. 39°19′04″ N., long. 100°52′07″ W.
PENUT, KS | WP | Lat. 38°37′00″ N., long. 99°38′25″ W.
KIRKE, KS | INT | Lat. 38°05′23″ N., long. 98°24′05″ W.
MORRR, KS | WP | Lat. 37°31′11″ N., long. 97°15′21″ W.
Bartlesville, OK (BVO) | VOR/DME | Lat. 36°50′03″ N., long. 96°01′06″ W.
Q-150 STEVS, WA to OPPEE, ND [New]
STEVS, WA | WP | Lat. 47°14′54″ N., long. 120°32′10″ W.
ZAXUL, WA | INT | Lat. 47°10′03″ N., long. 120°02′42″ W.
LEZLE, WA | INT | Lat. 46°08′36″ N., long. 117°09′24″ W.
BAXGO, ID | INT | Lat. 45°02′57″ N., long. 114°01′33″ W.
LAMON, ID | INT | Lat. 43°57′34″ N., long. 111°14′58″ W.
GANNE, WY | WP | Lat. 43°18′37″ N., long. 109°30′24″ W.
OPPEE, WY | WP | Lat. 41°27′33″ N., long. 106°14′42″ W.
W.Q-152 SUNED, WA to O′Neill, NE [New]
SUNED, WA | INT | Lat. 46°17′42″ N., long. 119°57′36″ W.
LEZLE, WA | INT | Lat. 46°08′36″ N., long. 117°09′24″ W.
WEDAK, MT | INT | Lat. 45°53′18″ N., long. 114°05′02″ W.
IKFOM, WY | WP | Lat. 44°54′59″ N., long. 108°32′21″ W.
WUVUT, WY | INT | Lat. 44°14′40″ N., long. 105°15′53″ W.
O′Neill, NE (ONL) | VORTAC | Lat. 42°28′14″ N., long. 98°41′13″ W.
Q-154 WANTA, WA to Bowie, TX [New]
WANTA, WA | INT | Lat. 46°28′24″ N., long. 121°37′26″ W.
JELTI, OR | INT | Lat. 44°59′37″ N., long. 118°21′12″ W.
HOVEL, ID | INT | Lat. 44°21′33″ N., long. 117°11′31″ W.
VELUY, ID | WP | Lat. 43°38′24″ N., long. 115°44′53″ W.
Burley, ID (BYI) | VOR/DME | Lat. 42°34′49″ N., long. 113°51′57″ W.
PIMIE, UT | INT | Lat. 41°49′19″ N., long. 112°18′47″ W.
NAGNE, UT | INT | Lat. 41°10′19″ N., long. 111°15′10″ W.
BONGO, UT | INT | Lat. 40°07′31″ N., long. 109°21′23″ W.
PITMN, CO | INT | Lat. 39°06′03″ N., long. 107°18′31″ W.
TAYLR, CO | INT | Lat. 38°47′36″ N., long. 106°44′03″ W.
GOSIP, CO | INT | Lat. 37°37′15″ N., long. 104°35′50″ W.
KENTO, NM | INT | Lat. 36°44′19″ N., long. 103°05′57″ W.
NOSEW, TX | WP | Lat. 35°31′08″ N., long. 100°59′38″ W.
Bowie, TX (UKW) | VORTAC | Lat. 33°32′09″ N., long. 97°49′17″ W.
Q-156 STEVS, WA to ZZIPR, IA [New]
STEVS, WA | WP | Lat. 47°14′54″ N., long. 120°32′10″ W.
ZAXUL, WA | INT | Lat. 47°10′03″ N., long. 120°02′42″ W.
FINUT, WA | WP | Lat. 46°44′56″ N., long. 117°05′20″ W.
TUFFY, MT | INT | Lat. 46°42′29″ N., long. 114°05′01″ W.
UPUGE, MT | INT | Lat. 46°38′05″ N., long. 112°10′02″ W.
HEXOL, MT | INT | Lat. 46°36′49″ N., long. 111°09′21″ W.
TOUGH, MT | WP | Lat. 46°13′58″ N., long. 105°12′52″ W.
JELRO, SD | INT | Lat. 45°48′44″ N., long. 102°51′47″ W.
KEKPE, SD | WP | Lat. 45°17′55″ N., long. 100°16′49″ W.
UFFDA, MN | WP | Lat. 44°29′46″ N., long. 96°05′25″ W.
HSTIN, MN | WP | Lat. 44°00′08″ N., long. 93°57′40″ W.
ZZIPR, IA | WP | Lat. 43°11′09″ N., long. 91°39′33″ W.

Issued in Washington, DC, on April 9, 2012.
Gary A. Norek,
Manager, Airspace, Regulations and ATC Procedures Group.

[FR Doc. 2012-8976 Filed 4-13-12; 8:45 am]

BILLING CODE 4910-13-P